DEPARTMENT OF AGRICULTURE

Submission for OMB Review; Comment Request

August 1, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Office of the Chief Financial Officer

Title: Debt Collection.

OMB Control Number: 0505-0007.

Summary of Collection: The Debt Collection Act of 1982 requires that any monies that are payable or may become payable from the United States under contracts and other written agreements to any person or legal entity not an agency or subdivision of a State or local government may be subject to administrative offset for the collection of a delinquent debt the person or a legal entity owes to the United States. Section 10 requires that debtors be provided due process prior to the collection of any claims through administrative offset. Delinquent debtors wishing to appeal must provide relevant information. USDA agencies will collect information using a letter of intent from the creditor agencies to delinquent debtors.

Need and Use of the Information: USDA agencies will collect information on delinquent debtors targeted for administrative offset who want additional information; wish to enter into repayment agreements; or wish to request a review of agencies' determination to offset appropriation act. The creditor agencies will not be able to comply with the due process provision of the Debt Collection Act or the Debt Collection Improvement Act if relevant information is not collected.

Description of Respondents: Individuals or households; Business or other for-profit; Farms.

Number of Respondents: 3,771.

Frequency of Responses: Reporting: On occasion.

Total Burden Hours: 7,542.

Agricultural Research Service

Title: Utilization of Food and Nutrition Information Center (FNIC) Resources by Personnel at Schools Receiving USDA Funds for Child Nutrition Programs.

OMB Control Number: 0518-NEW.

Summary of Collection: The Food and Nutrition Information Center (FNIC) does not have a means to determine the use of FNIC resources by personnel at schools receiving USDA funds for Child Nutrition Programs. To collect this information, FNIC proposes to provide attendees of selected educated related conferences with a password to access a one-time, voluntary, electronic FNIC Resources usage survey. The information collected in this survey will assist FNIC staff in improving the resources provided to meet the needs of the targeted audience. The authority to collect this information is CFR, Title 7, Volume 1, part 2, subpart K, Sec. 2.65 (92).

Need and Use of the Information: FNIC will collect information to evaluate current FNIC resources and assist in planning and managing future projects. Failure to collect this information would inhibit FNIC's ability to ensure the resources FNIC provides are in accord with resources desired by targeted patron groups, such as personnel in schools participating in Child Nutrition Programs.

Description of Respondents: Not-for-profit institutions.

Number of Respondents: 200.

Frequency of Responses: Reporting: On occasion.

Total Burden Hours: 50.

Farm Service Agency

Title: Standard Operating Agreement Governing Intermodal Transportation.

OMB Control Number: 0560-194.

Summary of Collection: The 49 U.S.C. authorizes the Kansas City Commodity Office, Export Operations Division (KCCO/EOD) to collect information to determine the eligibility of Intermodal Marketing Companies (IMC) to haul agricultural products for the USDA Farm Service Agency (FSA). For an IMC to participate in CCC freight, FSA requires a certificate of insurance to be filed with KCCO, EOD. IMC's are also required to furnish documentation from a rail company verifying that it has an ongoing business relationship with at least one rail company. The IMC shall complete KCCO's Standard Operating Agreement Governing Intermodal Transportation. The Standard Operating Agreement sets out operating rules for intermodal shipment, accessorial charges, and the terms and conditions of carriage.

Need and Use of the Information: FSA will collect information by mail to establish the Trailer on Flatcar/Container on Flatcar (TORC/COFC) service needs of the Department of Agriculture, Farm Service Agency, the Kansas City Commodity Office, operating as Commodity Credit Corporation, for the movement of its freight, and to insure that an IMC arranging for the transportation service has both the willingness and the capability to meet those needs. Without this information, FSA and KCCO could not meet program requirements.

Description of Respondents: Business or other for-profit; Federal; Not-for-profit institutions; State, Local or Tribal Government.

Number of Respondents: 14.

Frequency of Responses: Reporting: Other (Once).

Total Burden Hours: 14.

Farm Service Agency

Title: Representations for CCC and FSA Loans and Authorization to File a Financing Statement.

OMB Control Number: 0560-0215.

Summary of Collection: The revised Article 9 of the Uniform Commercial Code deals with secured transaction for personal property. The revised Article 9 will affect the manner in which the Commodity Credit Corporation (CCC) and the Farm Service Agency (FSA), as well as any other creditor, perfect and liquidate security interests in collateral. FSA operates several loan programs that are affected by the revision to Article 9 of the Uniform Commercial Code. Each of the programs requires that loans be secured with collateral. The security interest is created and attaches to the collateral when: (1) Value has been given, (2) the debtor has rights in the collateral or the power to transfer rights in the collateral, and (3) the debtor has authenticated a security agreement that provides a description of the collateral. FSA will collect information using form CCC-10. The information obtained on CCC-10 is needed to obtain authorization from loan applicants to file a financing statement and to verify the name and location of the debtor.

Need and Use of the Information: The information that FSA collects will be used to gather or verify basic data regarding the applicant which is required on a financing statement and to obtain permission to file a financing statement prior to the execution of a security agreement. Without obtaining the information from loan applicants, CCC and FSA would be unable to perfect a security interest in collateral used to secure loans.

Description of Respondents: Farms; Individuals or households; Business or other for-profit.

Number of Respondents: 207,500.

Frequency of Responses: Reporting; On occasion.

Total Burden Hours: 120,350.

Animal and Plant Health Inspection Service

Title: Endangered Species Regulations and Forfeiture Procedures.

OMB Control Number: 0579-0076.

Summary of Collection: The Endangered Species Act of 1973 (16 U.S.C. 1513 et seq.) directs Federal departments to utilize their authorities under the Act to conserve endangered and threatened species. Section 3 of the Act specifies that the Secretary of Agriculture is authorized to promulgate such regulations as may be appropriate to enforce the Act. The regulations contained in 7 CFR 355 are intended to carry out the provisions of the Act. The Plant Protection and Quarantine (PPQ) division of USDA's Animal & Plant Health Inspection Service (APHIS) is responsible for implementing these regulations. Specifically, section 9(d) of the Act authorizes 7 CFR 355.11, which requires a general permit to engage in the business of importing or exporting terrestrial plants listed in 50 CFR Parts 17 and 23. APHIS will collect information using PPQ forms 368, 621, 625, 623, and 626.

Need and Use of the Information: APHIS will collect information on the applicant's name and address, whether the applicant is affiliated with a business, and the address of all the applicant's business locations in order for the applicant to obtain a general permit. Upon approval of the permit, any endangered species shipped via mail must be sent to an authorized port of entry and must be accompanied by appropriate supporting documentation.

Description of Respondents: Business or other for-profit.

Number of Respondents: 1,400.

Frequency of Responses: Recordkeeping; Reporting: On occasion.

Total Burden Hours: 4,738.

Animal and Plant Health Inspection Service

Title: 9 CFR 50 & 77, Tuberculosis.

OMB Control Number: 0579-0084.

Summary of Collection: Title 21 U.S.C. authorizes the Secretary of Agriculture to prevent, control and eliminate domestic diseases such as tuberculosis, as well as to take actions to prevent and to manage exotic diseases such as hog cholera, African swine fever, and other foreign diseases. The Animal and Plant Health Inspection Service (APHIS) oversees the Cooperative State-Federal Bovine Tuberculosis Eradication Program to eliminate bovine tuberculosis, a serious disease of livestock. The disease also affects man through contracts with infected animals or their byproducts. APHIS works with State and other federal organizations to conduct epidemiologic investigations to locate bovine tuberculosis and provide a means of controlling it. Information is collected using a variety of forms to properly identify, test, and transport animals that are infected with or exposed to tuberculosis.

Need and Use of the Information: APHIS will collect information to search for infected herds, maintain identification of livestock, monitor deficiencies in identification of animals for movement, and monitor program deficiencies in suspicious and infected herds. Continued collection of this information is essential for program progress aimed at controlling and eradicating bovine tuberculosis.

Description of Respondents: Business or other for-profit; Farms; State, Local or Tribal Government.

Number of Respondents: 6,897.

Frequency of Responses: Reporting: On occasion.

Total Burden Hours: 17,372.

Animal and Plant Health Inspection Service

Title: Wood Packing Material from China.

OMB Control Number: 0579-0135.

Summary of Collection: The United States Department of Agriculture is responsible for preventing plant diseases or insect pests from entering the United States, preventing the spread of pests not widely distributed in the United States, and eradicating those imported pests when eradication is feasible. The Plant protection Act authorizes the Department to carry out this mission. Section 102 of the Organic Act (7 U.S.C. 147a) states, in part that the “the Secretary of Agriculture, either independently or in cooperation with the States * * * is authorized to carry out operations or measures to detect, eradicate, suppress, control, prevent, or retard the spread of plant pests. Effective January 1, 2002, the People's Republic of China required that Solid Wood Packing Material (SWPM) exported from the United States to China be certified as having been heat treated. To be certified, coniferous SWPM must be heat treated in the United States. The rule changed that requirement to allow Canadian-origin coniferous SWPM to be heat treated in Canada. Implementing the laws is necessary in order to prevent injurious insect pests and plant diseases from entering the United States. Solid wood items used to pack commodities imported from China must first be heat treated, fumigated, or treated with preservations before they leave China for the United States.

Need and Use of the Information: The Animal and Plant Health Inspection Service (APHIS) will collect information from the Treatment Certificate and Exporter Document that will provide information that will enable APHIS inspectors to focus their attention on those shipments that present the most risk of harboring exotic insect pests (i.e., those shipments that contain solid wood packing material, as opposed to those shipments that do not). Failure to collect this information would cripple APHIS ability to ensure that solid wood packing material from China does not harbor destructive plant pests.

Description of Respondents: Business or other for-profit; Individuals or households; State, Local or Tribal Government.

Number of Respondents: 29,000.

Frequency of Responses: Reporting: On occasion.

Total Burden Hours: 73,950.

Animal and Plant Health Inspection Service

Title: ISA Payment of Indemnity.

OMB Control Number: 0579-0192.

Summary of Collection: Federal regulation contained in 9 CFR Subchapter B governs cooperative programs in control and eradicate communicable diseases of livestock from the United States. In accordance with 21 U.S.C. 111, 113, 114, 115, 117, 120, 123, and 134a, the Secretary of Agriculture has the authority to promulgate regulations and take measures to prevent the introduction into the United States and the interstate dissemination within the United States of communicable disease of livestock and poultry, and to pay claims growing out of the destruction of animals. Disease prevention is the most effective method for maintaining a healthy animal population and enhancing APHIS' ability to compete in exporting animals and animal products. Veterinary Services, a unit within USDA's Animal and Plant Health Inspection Service (APHIS), is charged with carrying out this disease prevention mission. Infectious Salmon Anemia (ISA) poses a substantial threat to the economic viability and sustainability of salmon aquaculture in the United States and abroad. In an effort to control ISA in the State of Maine, to prevent further breakouts in that State, and to prevent the disease from spreading to other parts of the United States, APHIS is publishing an interim rule to provide for the payment of indemnity to producers in the State of Maine for fish destroyed because of ISA. APHIS will collect information using VS Form 1-22 ISA Program Enrollment Form and VS Form 1-23 All Species Appraisal & Indemnity Claim Form.

Need and Use of the Information: Each program participant must sign an ISA Program Enrollment Form in which they agree to participate fully in USDA's and the State of Maine's ISA Program. APHIS will collect the owner's name and address, the number of fish for which the owner is seeking payment, and the appraised value of each fish. The owner must also certify as to whether the fish are subject to a mortgage. Without the information it would be impossible for APHIS to launch a program to contain and prevent ISA outbreaks in the United States.

Description of Respondents: Business or other for-profit; Individuals or households.

Number of Respondents: 110.

Frequency of Responses: Reporting: On occasion.

Total Burden Hours: 2,934.

Food and Nutrition Service

Title: Food Stamp Program—Store Applications.

OMB Control Number: 0584-0008.

Summary of Collection: The Food Stamp Program (FSP) is designed to promote the general welfare and safeguard the health and well being of the Nation's population by raising levels of nutrition among low-income households. Section 9 of the Food Stamp Act of 1977, as amended, (the Act) (7 U.S.C. 2011 et. seq.) requires that the Food and Nutrition Service (FNS) provide for the submission of applications for approval by retail food establishments and meal service programs that wish to participate in the FSP. The need to collect information is established under the Act to determine the eligibility of retail food stores, wholesale food concerns, and food service organizations applying for authorization to accept and redeem food stamp benefits, to monitor these firms for continued eligibility, to sanction stores for non-compliance with the Act, and for program management. FNS will collect information using forms FNS-252, Food Stamp Application for Tore, and FNS 252-2, Application to Participate in the Food Stamp Program for Communal Dining Facility/Others.

Need and Use of the Information: FNS will collect information to determine a firm's eligibility for participation in the FSP, program administration, compliance monitoring and investigations, and for sanctioning stores found to be violating the program. FNS is also responsible for requiring updates to application information and reviewing that information to determine whether or not the retail food store, wholesale food concern, or food service organization continues to meet eligibility requirements. Owners Employer Identification Numbers (EIN) and Social Security Numbers (SSN) may be disclosed to and used by Federal agencies or instrumentalities that otherwise gave access to EINs and SSNs. FNS and other Federal Government agencies examine such information during compliance reviews, audit review, special studies or evaluation efforts.

Description of Repondents: Business or other for-profit; Not-for-profit institutions; Farms; Federal Government.

Number of Respondents: 20,299.

Frequency of Responses: Reporting: On occasion.

Total Burden Hours: 9,050.

Food and Nutrition Service

Title: 7 CFR Part 235 State Administrative Expense Funds.

OMB Control Number: 0584-0067.

Summary of Collection: Because the Food and Nutrition Service (FNS) is accountable for State Administrative Expense (SAE) funds by fiscal year, State agencies (SAs) are requested to report their SEA budget information on that basis. If the State budgets coincide with a fiscal year other than that used by the Federal government, the SA must convert its State budget figures to amounts to be used during the applicable Federal fiscal year for this purpose. Under 7 CFR Part 235, State Administrative Expense Funds, there are five reporting requirements, which necessitate the collection of information. They are as follows: SAE Plan, Reallocation Report, Coordinated Review Effort (CRE) Data Base Update, Report of SAE Funds Usage, and Responses to Sanctions. SAs also must maintain records pertaining to SEA. These include Ledger Accounts, Source Documents, Equipment to SAE. These include Ledger Accounts, Source Documents, Equipment Records and Record on State Appropriated Funds. FNS will collect information using forms FNS-74 and 525.

Need and Use of the Information: FNS will collect information on the total SAE cost the SA expects to incur in the course of administering the Child Nutrition Programs (CNP); the indirect cost rate used by the SA in charging indirect cost to SEA, together with the name of the Federal agency that assigned the rate and the date the rate was assigned, breakdown of the current year's SAE budget between the amount allocated for the current year and the amount carried over from the prior year; and the number and types of personnel currently employed in administering the CNPs. The information is used to determine whether SA intends to use SEA funds for purposes allowable under OMB Circular A-87, Cost Principles for State and Local Governments; does SA's administrative budget provide for sufficient funding from State sources to meet the Maintenance of Effort requirement; and is SA's staff adequate to effectively administer the program covered by the SA's agreement with FNS.

Description of Respondents: State, Local or Tribal Government.

Number of Resondents: 87.

Frequency of Responses: Recordkeeping; Reporting: Annually.

Total Burden Hours: 12,922.

Food and Nutrition Service

Title: Waivers Under Section 6(o) of the Food Stamp Act.

OMB Control Number: 0584-0479.

Summary of Collection: Section 824 of the Personal Responsibility and Work Opportunity Reconciliation Act of 1996, Pub. L. 104-193 (PRWORA) establishes a time limit for the receipt of food stamp benefits for certain able-bodied adults who are not working. In areas where the unemployment rate is over 10 percent or does not have a sufficient number of jobs to provide employment for the individuals, the Secretary of Agriculture has the authority to waive the provision for any group of individuals, upon receiving a State agency's request.

Need and Use of the Information: Food and Nutrition Service use the information provided by State food stamp agencies to evaluate whether the statutory requirements for a waiver of the food stamp time limit have been met and to determine specifically whether the designated areas' unemployment rate is over 10 percent or if there is a lack of sufficient jobs available. If the information is not collected, the State Food Stamp agencies could not obtain waivers of time limits contained in Section 6(o) of the Act.

Description of Respondents: State, Local or Tribal Government; Individuals or household.

Number of Respondents: 42.

Frequency of Responses: Reporting: On occasion; Annually.

Total Burden Hours: 148.

Animal and Plant Health Inspection Service

Title: Phytopthora Ramorum; Quarantine and Regulations.

OMB Control Number: 0579-0191.

Summary of Collection: The United States Department of Agriculture is responsible for preventing plant diseases or insect pests from entering the United States, preventing the spread of pests not widely distributed in the United States, and eradicating those imported pests when eradication is feasible. The Plant Protection Act authorizes the Department to carry out this mission. The regulations were amended to quarantine portions of California and Oregon because of Phytophthora Ramorum (PR) and restrict the interstate movement of regulated and articles from quarantined areas. This is necessary to prevent the spread of PR to noninfested areas of the United States.

Need and Use of the Information: APHIS will collect information to protect U.S. nursery stock and other plant resources from the potential introduction of plant pests into the country. If the information were not collected, APHIS ability to verify that imported nursery stock does not present a significant risk of introducing plant pests to the U.S. would be severely hampered.

Description of Respondents: Business or other for-profit; Individuals or households; Farms; Federal Government; State, Local or Tribal Government.

Number of Respondents: 387.

Frequency of Responses: Recordkeeping; Reporting; On occasion.

Total Burden Hours: 1,227.

Rural Housing Service

Title: 7 CFR Part 3565, “Guaranteed Rural Rental Housing Program” and its Supporting Handbook.

OMB Control Number: 0575-0174.

Summary of Collection: On March 26, 1996, the Housing Opportunity Program Extension Act of 1996 was signed. One of the provisions of the Act was the authorization of the section 538 Guaranteed Rural Rental Housing Program (GRRHP), adding the program to the Housing Act of 1949. The purpose of the GRRHP is to increase the supply of affordable rural rental housing through the use of loan guarantees that encourage partnerships between the Rural Housing Service (RHS), private lenders and public agencies. RUS will approve qualified lenders to participate and monitor lender performance to ensure program requirements are met. RHS will collect information from lenders on the eligibility cost, benefits, feasibility, and financial performance of the proposed project.

Need and Use of the Information: RHS will collect information from lenders to manage, plan, evaluate, and account for Government resources. The GRRHP regulation and handbook will provide lenders and agency staff with guidance on the origination and servicing of GRRHP loans and the approval of qualified lenders. RHS will use the information to evaluate a lender's request and make a determination that the interests of the government are protected. Failure to collect information could have an adverse impact on the agency ability to monitor lenders and assess program effectiveness and effectively guarantee loans.

Description of Respondents: Business or other for-profit; Not-for-profit institutions.

Number of Respondents: 50.

Frequency of Responses: Reporting: Quarterly; Monthly; Annually.

Total Burden Hours: 1581.

Farm Service Agency

Title: Standard Rules Tender Governing Motor Carrier Transportation.

OMB Control Number: 0560-0195.

Summary of Collection: Public Law 104-88 authorizes the Export Operation Division (EOD) to collect information to determine motor carrier compliance with Kansas City Commodity Office (KCCO) requirements, to determine eligibility of motor carriers to haul agricultural products for the USDA. A motor carrier shall complete KCCO's Standard Rules Tender Governing Motor Carrier Transportation and file its rates with EOD. The Standard Rules Tender set the operating rules for the motor carrier to determine motor carrier compliance, accessorial charges, and the terms and conditions of carriage. Carriers are selected based on their rate and service levels. The information enables KCCO to evaluate the rates to obtain transportation services to meet domestic and export program needs.

Need and Use of the Information: FSA will collect information to establish the motor carrier's qualifications, and carriage rates and conditions. Without this information FSA and KCCO could not obtain transportation services to meet program requirements.

Description of Respondents: Business or other for-profit, Not-for-profit institutions; Federal Government; State, Local or Tribal Government.

Number of Respondents: 99.

Frequency of Responses: Reporting: Once.

Total Burden Hours: 99.

Agricultural Research Service

Title: Utilization of Food and Nutrition Information Center (FNIC) Resources by Personnel at Schools Receiving USDA Funds for Child Nutrition Programs.

OMB Control Number: 0518-NEW.

Summary of Collection: The food and Nutrition Information Center (FNIC) does not have a means to determine the use of FNIC resources by personnel at schools receiving USDA funds for Child Nutrition Programs. To collect this information, FNIC proposes to provide attendees of selected educated related conferences with a password to access a one-time, voluntary, electronic FNIC Resources usage survey. The information collected in this survey will assist FNIC staff in improving the resources provided to meet the needs of the targeted audience. The authority to collect this information is CFR, Title 7, Volume 1, Part 2, Subpart K, Sec. 2.65 (92).

Need and Use of the Information: FNIC will collect information to evaluate current FNIC resources and assist in planning and managing future projects. Failure to collect this information would inhibit FNIC's ability to ensure the resources FNIC provides are in accord with resources desired by targeted patron groups, such as personnel in schools participating in Child Nutrition Programs.

Description of Respondents: Not-for-profit institutions.

Number of Respondents: 200.

Frequency of Responses: Reporting: On occasion.

Total Burden Hours: 50.

Animal and Plant Health Inspection Service

Title: CWD in Cervids; Payment of Indemnity.

OMB Control Number: 0579-0189.

Summary of Collection: Federal regulations contained in 9 CFR Subchapter B govern cooperative programs to control and eradicate communicable diseases of livestock from the United States. In accordance with 21 U.S.C. 111-113, 114, 115, 117, 120, 123, and 134a, the Secretary of Agriculture has the authority to promulgate regulations and take measures to prevent the introduction into the United States and the interstate dissemination within the United States of communicable diseases of livestock and poultry, and to pay claims growing out of the destruction of animals. Disease prevention is the most effective method for maintaining a health animal population and enhancing our ability to complete in exporting animals and animal products. Veterinary Services, a unit within USDA's Animal and Plant Health Inspection Service (APHIS), is charged with carrying out this disease prevention mission. Chronic wasting disease (CWD) is a transmissible spongiform encephalopathy (TSE) of elk and deer typified by chronic weight loss leading to death. The presence of chronic wasting disease in cervids causes significant economic and market losses to U.S. producers. APHIS will collect information using VS Form 1-23 Appraisal & Indemnity Claim Form.

Need and Use of the Information: APHIS will collect the owner's name and address, the number of animals for which the owner is seeking payment, and the appraised value of each animal. The owner must also certify as to whether the animals are subject to a mortgage. If there is a mortgage, the form must be signed by the owner and each person holding a mortgage. Failure to collect this information would make it impossible for APHIS to launch its program to accelerate the eradication of chronic wasting disease from the United States.

Description of Respondents: Farms; Business or other for-profit.

Number of Respondents: 10.

Frequency of Responses: Reporting: On occasion.

Total Burden Hours: 10.

Sondra A. Blakey,
Departmental Information Collection Clearance Officer.

[FR Doc. 02-19945 Filed 8-6-02; 8:45 am]

BILLING CODE 3410-01-M